ENVIRONMENTAL PROTECTION AGENCY

40 CFR Part 52

[EPA-R04-OAR-2023-0339; FRL-12355-01-R4]

Air Plan Approval; KY; Revisions to Jefferson County Control of Open Burning

AGENCY: Environmental Protection Agency (EPA).

ACTION: Proposed rule.

SUMMARY: The Environmental Protection Agency (EPA) is proposing to approve a State Implementation Plan (SIP) revision submitted by the Commonwealth of Kentucky, through the Kentucky Division for Air Quality (KDAQ) on behalf of the Louisville Metro Pollution Control District (Jefferson County or District) via a letter dated May 30, 2023. The purpose of the revision is to clarify that a fire for general agricultural production must be a controlled burn; to allow the use of District-approved accelerants to start certain fires; and to adjust paragraph numbering. EPA is proposing to approve the changes pursuant to the Clean Air Act (CAA or Act).

DATES: Comments must be received on or before December 2, 2024.

ADDRESSES: Submit your comments, identified by Docket ID No. EPA-R04-OAR-2023-0339 at regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Simone Jarvis, Air Regulatory Management Section, Air Planning and Implementation Branch, Air and Radiation Division, U.S. Environmental Protection Agency, Region 4, 61 Forsyth Street SW, Atlanta, Georgia 30303-8960. The telephone number is (404) 562-8393. Ms. Jarvis can also be reached via electronic mail at Jarvis.Simone@epa.gov.

SUPPLEMENTARY INFORMATION:

I. Background

On May 30, 2023,¹ KDAQ, on behalf of the District, submitted changes to the Jefferson County portion of the Kentucky SIP for EPA approval.² In this proposed rulemaking, EPA is proposing to approve changes to Jefferson County Regulation 1.11, Control of Open Burning.³

¹ EPA received the May 30, 2023, submittal on May 31, 2023. For clarity, throughout this notice EPA will refer to the May 31, 2023, submission by its cover letter date of May 30, 2023.

² The May 30, 2023, submittal also contains changes to Jefferson County Regulation 1.02, Definitions, in the Jefferson County portion of the Kentucky SIP. EPA addressed those changes in a separate rulemaking. See 89 FR 41319 (May 13, 2024).

³ In 2003, the City of Louisville and Jefferson County governments merged, and the “Jefferson County Air Pollution Control District” was renamed the “Louisville Metro Air Pollution Control District.” However, to be consistent with the terminology used in the subheading in table 2 of 40 CFR 52.920(c), throughout this notice we refer to the District regulations contained in the Jefferson County portion of the Kentucky SIP as the “Jefferson County” regulations.

II. EPA's Analysis of Kentucky's SIP Revision

Kentucky's May 30, 2023, SIP revision contains a version of Regulation 1.11, Control of Open Burning, that was adopted by the District on March 15, 2023 (referred to as “Version 11” by the District). The District requests that EPA incorporate Version 11 into the SIP and identifies three changes in Regulation 1.11 between Version 11 and Version 10, the version of the rule currently in the SIP.

The District's first proposed change adds the phrase “i.e., a controlled burn” to Section 2.1.4 to clarify that “a fire for general agricultural production” must be a controlled burn.

The District's second proposed change adds an exception to Section 2.4. Section 2.4 prohibits the use of tires, used oil, heavy oil, gasoline, diesel fuel, kerosene, or similar accelerants to start or maintain combustion of any fire described in Section 2.1. The proposed exception would allow the use of District-approved liquid accelerants to start fires for general agricultural production for weed abatement, disease control, or pest prevention or for recognized silvicultural, range, native grassland, or wildlife management practices that have been approved by the District pursuant to Section 2.1.4.

District-allowed accelerants are petroleum products, and these controlled burns are typically ignited by using two gallons of gasoline and five gallons of diesel fuel per 25 acres. In the past five years, the District has approved 32 fires for general agricultural production for weed abatement, disease control, or pest prevention or for recognized silvicultural, range, native grassland, or wildlife management practices. EPA preliminarily agrees with the District's determination that there are no significant increases or reductions in the estimated level of emissions due to this revision. Any change in emissions due to the use of liquid accelerants for initiating and maintaining controlled burns is expected to have a de minimis impact on the relevant criteria pollutants (i.e., ozone and particulate matter) and is not expected to interfere with any applicable requirement concerning attainment of the national ambient air quality standards (NAAQS). This revision was requested by prescribed fire practitioners and is reflective of typical practices for controlled burns.

The District's third proposed change renumbers the paragraph breaks for subsections 2.1.8 and 2.1.9, and removes subsection 2.1.10. These numbering changes do not affect the language of the rule or otherwise have any substantive impact. Given the nature of this change and the other changes described above, EPA is proposing that the SIP revision will not interfere with any applicable requirement concerning attainment of the NAAQS, reasonable further progress, or any other applicable requirement of the CAA.⁴

⁴ See CAA section 110(l).

III. Incorporation by Reference

In this document, EPA is proposing to include in a final EPA rule regulatory text that includes incorporation by reference. In accordance with requirements of 1 CFR 51.5, and as discussed in section II of this document, EPA is proposing to incorporate by reference Jefferson County Regulation 1.11, Control of Open Burning, Version 11, District-effective on March 15, 2023, which clarifies that a fire for general agricultural production must be a controlled burn; to allow the use of District-approved accelerants to start certain fires; and to adjust paragraph numbering. EPA has made, and will continue to make, these materials generally available through www.regulations.gov and at the EPA Region 4 office (please contact the person identified in the “For Further Information Contact” section of this preamble for more information).

IV. Proposed Action

EPA is proposing to approve the changes to Regulation 1.11, Control of Open Burning, of the Jefferson County portion of the Kentucky SIP, submitted by the Commonwealth on May 30, 2023, for the reasons discussed above. The SIP revision updates the current SIP-approved version of Regulation 1.11 (Version 10) to Version 11.

V. Statutory and Executive Order Reviews

Under the CAA, the Administrator is required to approve a SIP submission that complies with the provisions of the Act and applicable Federal regulations. See 42 U.S.C. 7410(k); 40 CFR 52.02(a). Thus, in reviewing SIP submissions, EPA's role is to approve State choices, provided that they meet the criteria of the CAA. Accordingly, this proposed action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not proposing to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The District did not evaluate EJ considerations as part of its SIP submittal; the CAA and applicable implementing regulations neither prohibit nor require such an evaluation. EPA did not perform an EJ analysis and did not consider EJ in this proposed action. Due to the nature of the action being proposed here, this proposed action is expected to have a neutral impact on the air quality of the affected area. Consideration of EJ is not required as part of this proposed action, and there is no information in the record inconsistent with the stated goal of E.O. 12898 of achieving EJ for communities with EJ concerns.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: October 24, 2024.
Jeaneanne Gettle,
Acting Regional Administrator, Region 4.

[FR Doc. 2024-25244 Filed 10-30-24; 8:45 am]

BILLING CODE 6560-50-P